Proclamation 10306 of November 12, 2021

American Education Week, 2021

By the President of the United States of America

A Proclamation

I have always believed that our children are the kite strings that hold our national ambitions aloft—when we invest in their education, we are investing in the future of our Nation. During American Education Week, which marks its 100th anniversary this year, we celebrate the unparalleled power of education to lift our country to new heights, and we recommit ourselves to ensuring that every child in America receives a quality education.

When America made 12 years of public education standard more than a century ago, it gave us the best-educated, best-prepared workforce in the world—setting us on a path to lead the world for the better part of the 20th century. Not only is quality, equitable education the engine of innovation and the fuel of a thriving economy—it is also key to preserving our democracy and advancing American ideals. But as the First Lady so often says, any country that out-educates us will out-compete us. The truth is that we are no longer keeping pace with other countries when it comes to investing in the next generation.

While America once led the world in educational achievement, the Organization for Economic Cooperation and Development now ranks us 35th out of 37 major economies when it comes to investing in early childhood education and care. Only about half of American 3- and 4-year-olds are enrolled in early childhood education—while in Germany, France, the UK, Latvia, and other nations, that number is more than 90 percent. According to one study from the Pell Institute, we now rank 12th among advanced economies when it comes to the percentage of our young people who have attained a post-high-school degree.

Simply put—we cannot be competitive in the 21st century global economy if we do not accelerate degree attainment. It is more important than ever that we invest in education, particularly as schools and communities are still fighting to overcome the challenges of the COVID-19 pandemic. This virus has called upon the extraordinary resilience of our educators, school staff, students, and families, whose dedicated efforts over the last 19 months have helped keep millions of young people on a path to fulfillment and success. Now, we must match their determination with bold action to ensure that our children—and our Nation—are well-positioned to lead the world in the years ahead.

To that end, my Administration provided resources through the American Rescue Plan that are helping schools and colleges safely return to in-person instruction and meet the academic, social, emotional, and financial needs of students most affected by the pandemic. My budget proposal for fiscal year 2022 more than doubles funding for schools that serve low-income students; invests in support for students with disabilities; increases Federal funding for community schools tenfold; and works towards my Administration's goal of doubling the number of school counselors, social workers, psychologists, and nurses so that teachers can focus on teaching. Finally, my Administration's Build Back Better framework would make transformational investments in our education system—including by making 2 years of high-quality pre-school available to every child in America. We will also make significant investments in education beyond high school: We will increase Pell Grants to help students from lower-income families attend college and invest in Historically Black Colleges and Universities, Hispanic-Serving Institutions, Tribal Colleges and Universities, and other Minority-Serving Institutions to help ensure that young people from every neighborhood have a fair shot at the good-paying jobs of the future.

In celebrating the centennial anniversary of American Education Week, let us acknowledge education's power to transform lives, uplift communities, and strengthen our democratic society. Let us honor all those who nurture our students and inspire the future leaders of our great Nation.

NOW, THEREFORE, I, JOSEPH R. BIDEN JR., President of the United States of America, by virtue of the authority vested in me by the Constitution and the laws of the United States, do hereby proclaim November 14 through November 20, 2021, as American Education Week. I invite all Americans to join in expressing gratitude, now and throughout the year, for the educators and staff of our Nation's schools and colleges, and I encourage the observation of this week through appropriate activities, events, and programs designed to showcase engaging, high-quality education, celebrate the joy of learning, and prepare students of every background for success.

IN WITNESS WHEREOF, I have hereunto set my hand this twelfth day of November, in the year of our Lord two thousand twenty-one, and of the Independence of the United States of America the two hundred and forty-sixth.

[FR Doc. 2021-25190

Filed 11-16-21; 8:45 am]

Billing code 3395-F2-P